FEDERAL COMMUNICATIONS COMMISSION

[DA 00-109]

United States and Canada Reach Agreement Regarding Use of the 220—222 MHz Band Along Their Border

AGENCY: Federal Communications Commission.

ACTION: Notice.

SUMMARY: This document announces that the Federal Communications Commission, the National Telecommunications and Information Administration, and Industry Canada have signed an interim sharing Arrangement regarding use of the 220-222 MHz band along the United States -Canada Border. Now that the Arrangement has been agreed upon, any non-nationwide Phase I 220 MHz licensee with a base station authorized at a location North of Line A must construct its base station and place it in operation, or commence service, on all authorized channels by January 21, 2001. The authorization of a licensee that does not construct its base station and place it into operation, or commence service, by January 21, 2001, cancels automatically on that date and must be returned to the Commission. United States licensees along the border whose construction deadlines had previously been delayed pending completion of this Arrangement between the United States and Canada are now required to complete construction and commence operation by January 21, 2001.

DATES: Effective January 21, 2000.

FOR FURTHER INFORMATION CONTACT: Dan Abeyta, Wireless Telecommunications Bureau, at (202) 418-1538; Henry Straube, International Bureau, at (202) 418-2144.

SUPPLEMENTARY INFORMATION: This Public Notice, reproduced without footnotes, was released January 21, 2000. It is available for inspection and copying during normal business hours in the FCC Reference Center, 445 Twelfth Street, S.W., Washington D.C. The complete text may be purchased from the Commission's copy contractor, International Transcription Service, Inc., 1231 20th Street, N.W., Washington D.C. 20036 (202) 857-3800. The complete document is also available via the internet at http://www.fcc.gov/Bureaus/Wireless/Public—Notices/2000/index2.html.

Interim Sharing Agreement Reached Regarding Use of 220-222 MHz Band with Canada

The Federal Communications Commission, the National Telecommunications and Information Administration, and Industry Canada have signed an interim sharing Arrangement regarding use of the 220-222 MHz band along the U.S.-Canada border. The Arrangement will resolve long-standing uncertainty regarding use of this band in the border area. In addition, by significantly reducing the amount of cross-border coordination required, the Arrangement will allow quick implementation of new services expected to be offered in the band. U.S. licensees along the border whose construction deadlines had previously been delayed pending completion of a U.S.-Canada agreement will now be required to complete construction and commence operation by January 21, 2001.

The Arrangement governs operations in the 220-222 MHz band within 120 kilometers of the U.S.-Canada border. The Arrangement identifies 200 channel pairs within this band and allots each channel pair for primary use by the United States or Canada, or for shared use. Frequencies allotted for primary use by one country may also be used on a secondary basis by the other country provided certain conditions are met. The Arrangement also provides antenna height and power restrictions, and there are special sharing arrangements for certain geographic areas and for low power stations. In addition, the Arrangement provides that, to the extent possible, certain specified channels will be available for implementation of Intelligent Transportation Systems/Intelligent Vehicle Highway System and Public Safety and Mutual Aid services. Beyond 120 kilometers from the border, both countries have full and unrestricted use of all channels in the band.

In commenting on the Arrangement, International Bureau Chief Donald Abelson stated, “This Arrangement builds on the strong cooperative relationship between the U.S. and Canada and encourages prompt provision of new services to the citizens on both sides of the border while protecting licensees and consumers from cross-border interference.” This Arrangement was reached as part of an on-going Commission effort to negotiate sharing agreements with Canada and Mexico that will promote efficient spectrum use in border areas.

In 1995, the Commission extended the construction deadline for non-nationwide Phase I 220 MHz licenses that were located north of Line A, near the Canadian border, due to the uncertainties surrounding the future of these licenses prior to reaching an agreement with Canada. The construction period was extended until twelve months after an agreement was reached between the United States and Canada on sharing the 220-222 MHz band. Now that the Arrangement has been realized, any non-nationwide Phase I 220 MHz licensee with a base station authorized at a location north of Line A must construct its base station and place it into operation, or commence service, on all authorized channels by January 21, 2001. The authorization of a licensee that does not construct its base station and place it into operation, or commence service, by January 21, 2001, cancels automatically on that date and must be returned to the Commission.

The full text of the Arrangement has been placed on file at the International Bureau Reference Room CY-A257, located on the Courtyard level of 445 12th St. S.W., Washington, D.C. Copies are also available from the International Transcription Service at (202) 857-3800 and can be downloaded from the FCC's International Bureau internet site at http://www.fcc.gov/ib/pnd/agree.

Federal Communications Commission.
James D. Schlichting,
Deputy Chief, Wireless Telecommunications Bureau.

[FR Doc. 00-7597 Filed 3-27-00; 8:45 am]

BILLING CODE 6712-01-U